DEPARTMENT OF ENERGY

Federal Energy Regulatory Commission

[Project No. 12642-003]

Wilkesboro Hydropower, LLC; Notice of Application Accepted for Filing and Soliciting Motions To Intervene and Protests

July 6, 2010.

Take notice that the following hydroelectric application has been filed with the Commission and is available for public inspection.

a. Type of Application: Original Major License.

b. Project No.: P-12642-003.

c. Date filed: September 29, 2009.

d. Applicant: Wilkesboro Hydroelectric Company, LLC.

e. Name of Project: W. Kerr Scott Hydropower Project.

f. Location: The proposed project would be located at the existing U.S. Army Corps of Engineers' (Corps) W. Kerr Scott dam on the Yadkin River, near Wilkesboro in Wilkes County, North Carolina. A total of 3.5 acres of federal lands, administered by the Corps, would be occupied by the proposed project.

g. Filed Pursuant to: Federal Power Act 16 U.S.C. 791(a)-825(r).

h. Applicant Contacts: Mr. Kevin Edwards, P.O. Box 143, Mayodan, NC 27027; Mr. Dean Edwards, P.O. Box 1565, Dover, FL 33527;

i. FERC Contact: Jennifer Adams at (202) 502-8087, or jennifer.adams@ferc.gov.

j. Deadline for filing motions to intervene and protests: 60 days from the issuance date of this notice, or September 4, 2010.

All documents may be filed electronically via the Internet. See 18 CFR 385.2001(a)(1)(iii) and the instructions on the Commission's website (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted for filing, but is not ready for environmental analysis at this time.

l. The proposed project would use the existing Kerr Scott dam, which is federally owned and administered by the Corps. The proposed project would use releases from the reservoir, as directed by the Corps, which would normally be released directly to the Yadkin River downstream from the dam. All existing facilities would remain, but some features would be modified and new facilities would be constructed.

The proposed project would consist of: (1) Modifying the existing low-level intake tower to be a multilevel intake structure with trashracks; (2) placing a 580-foot-long, 11-foot-diameter steel liner in the downstream portion of the existing 749-foot-long reinforced concrete water conduit to enable pressurization of the conduit; (3) a penstock bifurcation and two 8-foot-diameter steel penstocks; (4) a gate at the end of the water conduit, with a Howell-Bunger-ring-jet-type fixed cone valve installed in the gate; (5) an 80-foot-long by 30-foot-wide powerhouse containing one 2.0-MW Kaplan unit and one 2.0-MW propeller-type unit; (6) an 80-foot-wide by 30-foot-long discharge channel that joins the Yadkin River at the downstream end of the existing stilling basin; (7) a substation; (8) a new underground 12.47-kilovolt (kV) transmission line that extends 150 feet from the proposed powerhouse to an existing utility pole to the south of the powerhouse, and an upgraded 3,600-foot-long, 12.47-kV three-phase line that connects the utility pole to a Duke Energy substation; and (9) appurtenant facilities. The Kerr Scott project would generate approximately 22,400 megawatt-hours of energy annually.

m. A copy of the application is available for review at the Commission in the Public Reference Room, or may be viewed on the Commission's website at http://www.ferc.gov, using the “eLibrary” link. Enter the docket number, excluding the last three digits in the docket number field, to access the document. For help, contact FERC Online Support. A copy is also available for inspection and reproduction at the address in item h.

You may also register online at http://www.ferc.gov/docs-filing/e-subscription.asp to be notified via e-mail of new filings and issuances related to this or other pending projects. For assistance, contact FERC Online Support.

n. Any qualified applicant desiring to file a competing application must submit to the Commission, on or before the specified intervention deadline date, a competing development application no later than 120 days after the specified intervention deadline date. Applications for preliminary permits will not be accepted in response to this notice.

A notice of intent must specify the exact name, business address, and telephone number of the prospective applicant, and must include an unequivocal statement of intent to submit a development application. A notice of intent must be served on the applicant(s) names in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on, or before, the specified deadline date for the particular application.

When the application is ready for environmental analysis, the Commission will issue a public notice requesting comments, recommendations, terms and conditions, or prescriptions.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Kimberly D. Bose,
Secretary.

[FR Doc. 2010-17097 Filed 7-13-10; 8:45 am]

BILLING CODE 6717-01-P